DEPARTMENT OF ENERGY

Federal Energy Regulatory Commission

Combined Notice of Filings

Take notice that the Commission has received the following Natural Gas Pipeline Rate and Refund Report filings:

Filing Instituting Proceedings

Docket Numbers: RP17-289-000.

Applicants: Texas Eastern Transmission, LP.

Description: Texas Eastern Transmission, LP submits tariff filing per 154.204: Chevron k911109 Releases to ConocoPhillips for 1-1-2017 to be effective 1/1/2017.

Filed Date: 12/23/16.

Accession Number: 20161223-5048.

Comments Due: 5 p.m. ET 1/4/17.

Docket Number: PR17-14-000.

Applicants: EnLink North Texas Pipeline, LP.

Description: Tariff filing per 284.123(e) + (g): Cancellation of EnLink North Texas Pipeline, LP—311 SOC to be effective 12/21/2016.

Filed Date: 12/21/16.

Accession Number: 201612215198.

Comments Due: 5 p.m. ET 1/11/17.

284.123(g) Protests Due: 5 p.m. ET 2/21/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2016.
Nathaniel J. Davis, Sr.,
Deputy Secretary.

[FR Doc. 2017-01920 Filed 1-27-17; 8:45 am]

BILLING CODE 6717-01-P